ENVIRONMENTAL PROTECTION AGENCY

[FRL-6951-6]

Availability of “Allocation of Fiscal Year 2001 Operator Training Grants”

AGENCY: Environmental Protection Agency (EPA).

ACTION: Notice of document availability.

SUMMARY: EPA is announcing availability of a memorandum entitled “Allocation of Fiscal Year 2001 Operator Training Grants” issued on March 1, 2001. This memorandum provides National guidance for the allocation of funds used under section 104(g)(l) of the Clean Water Act.

ADDRESSES: Municipal Assistance Branch, U.S. EPA, 1200 Pennsylvania Avenue, NW (4204-M), Washington, D.C. 20460.

FOR FURTHER INFORMATION CONTACT: Curt Baranowski, (202) 564-0636 or baranowski.curt@epa.gov.

SUPPLEMENTARY INFORMATION: The subject memorandum may be viewed and downloaded from EPA's homepage, www.epa.gov/owm/mab/owm0317.pdf.

Dated: March 1, 2001.
Michael B. Cook,
Director, Office of Wastewater Management.

[FR Doc. 01-5855 Filed 3-8-01; 8:45 am]

BILLING CODE 6560-50-P